DEPARTMENT OF HOUSING AND URBAN DEVELOPMENT

[Docket No. FR-6289-N-04]

Tribal Intergovernmental Advisory Committee Membership

AGENCY: Office of Assistant Secretary for Public and Indian Housing, HUD.

ACTION: Notice.

SUMMARY: This notice announces the list of Committee Members of HUD's Tribal Intergovernmental Advisory Committee (TIAC). The committee will perform several advisory functions while it considers HUD policies that affect Indian Country. HUD will publish a subsequent notice with details of the first scheduled TIAC meeting.

FOR FURTHER INFORMATION CONTACT: Heidi J. Frechette, Deputy Assistant Secretary for Native American Programs, Office of Public and Indian Housing, Department of Housing and Urban Development, 451 Seventh Street SW, Room 4126, Washington, DC 20410, telephone number 202-401-7914 (this is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION:

I. Background

On January 26, 2021, President Biden issued a Presidential Memorandum on Tribal Consultation and Strengthening Nation-to-Nation Relationships.¹ The memorandum directed all Federal agencies to take actions to strengthen their Tribal consultation policies and practices and to further the purposes of Executive Order 13175 (Consultation and Coordination With Indian Tribal Governments).

¹ Available at: https://www.whitehouse.gov/briefing-room/presidential-actions/2021/01/26/memorandum-on-tribal-consultation-and-strengthening-nation-to-nation-relationships/.

On November 15, 2021 (86 FR 63051), to enhance consultation and collaboration with Tribal governments, HUD published a notice in the Federal Register announcing its intention to establish its first Tribal advisory committee known as the “Tribal Intergovernmental Advisory Committee” (TIAC). The notice also solicited Tribal feedback on a proposed TIAC structure and its functions. HUD received 12 written comments representing many different perspectives, including Tribes, Tribal leaders, Tribal housing employees, individuals, housing authorities, and regional housing authorities in response to its November 15, 2021 notice. In general, commenters were supportive of establishing the TIAC.

These comments were reviewed and considered in revising the proposed structure. On March 31, 2022 (87 FR 18807), HUD published a notice in the Federal Register that announced the final structure of the TIAC and requested the submission of Tribal nominations to the TIAC. After HUD published a notice (June 28, 2022, 87 FR 38421) reopening the request for nominations to request additional nominations, HUD began to review all of the Tribal nominations for selection.

II. The Tribal Intergovernmental Advisory Committee

Today's notice announces the membership of the TIAC. The purpose of the TIAC is to further facilitate intergovernmental communication between HUD and Tribal leaders of federally recognized Tribes on all HUD programs, to make recommendations to HUD regarding current program regulations that may require revision, as well as suggest rulemaking methods to develop such changes, and to advise in the development of HUD's American Indian and Alaska Native (AI/AN) housing priorities. The function of TIAC is not to replace Tribal consultation, but rather serve as a tool to help supplement it.

In making the selections for membership on the TIAC, HUD's goal was to establish a committee whose membership reflects a balanced representation of Indian tribes. In addition to the Tribal representatives on the committee, there will be several HUD representatives, each representing various program offices, on the committee.

HUD appreciate commenters who submitted names of Alternates. HUD is only announcing Committee Members in today's Notice. However, each Committee Member should have an eligible Alternate in queue in case the Committee Member is unable to attend a particular committee meeting. As a reminder, the Alternate must meet the same eligibility criteria required of the selected Committee Member, specifically, that they must be either a duly elected Tribal official or Tribal employee. The Alternate cannot be a Tribally Designated Housing Entity employee. In the absence of a Committee Member, the Alternate will have the same rights, responsibilities, duties, and functions as a Committee Member during meetings. Each Committee Member has the discretion to decide who will best represent them in their absence. A Committee Member unable to attend any session must inform HUD in writing with an original signature as to whom they have selected to represent them and will specify the term. HUD will review all Alternates before a meeting to confirm that they meet the eligibility criteria for Alternates specified by HUD.

The final list of members of the TIAC is as follows:

Tribal Members

Gary Batton, Chief, Choctaw Nation of Oklahoma, Durant, Oklahoma.

Darren Brinegar, Tribal Legislator, Ho-Chunk Nation of Wisconsin, Black River Falls, Wisconsin.

Glenn Ellis, Jr., Council Member, Makah Indian Tribe of the Makah Indian Reservation, Neah Bay, Washington.

Tina Glory-Jordan, Secretary of State, Cherokee Nation, Tahlequah, Oklahoma (at-large).

Denise Harvey, Council Member, Confederated Tribes of Grand Ronde Community of Oregon, Grand Ronde, Oregon.

Scott Herman, Chairman, Rosebud Sioux Tribe of the Rosebud Indian Reservation, Rosebud, South Dakota.

Victoria Hobbs, Legislative Council Representative, Tohono O'odham Nation of Arizona, Sells, Arizona.

Patricia MacDonald, Council President, Healy Lake Village, Fairbanks, Alaska.

Jacqueline Pata, 1st Vice President, Central Council of Tlingit and Haida Indian Tribes of Alaska, Juneau, Alaska.

Teri Nutter, Council Member, Gulkana Village Council, Gakona, Alaska (at-large).

Marshall Pierite, Chairman, Tunica-Biloxi Tribe of Louisiana, Marksville, Louisiana.

Bridgett Sorenson, Board of Director, Sault Ste. Marie Tribe of Chippewa Indians, Kincheloe, Michigan.

Lee Spoonhunter, Council Member, Northern Arapaho Tribe of the Wind River Reservation, Fort Washakie, Wyoming.

Tyler Yellow Boy, Council Member, Oglala Sioux Tribe, Pine Ridge, South Dakota (at-large).

Arch Super, Council Member, Karuk Tribe, Happy Camp, California.

HUD Representatives

Assistant Secretary, Office of Public and Indian Housing.

Assistant Secretary, Office of Policy, Development, and Research.

Assistant Secretary, Office of Fair Housing and Equal Opportunity.

Assistant Secretary, Office of Field Policy Management.

Assistant Secretary, Office of Housing.

Assistant Secretary, Government National Mortgage Association.

Assistant Secretary, Office of Community Planning and Development.

III. Next Steps

HUD will publish details of the first scheduled TIAC meeting in a subsequent notice.

Marcia L. Fudge,
Secretary.

[FR Doc. 2022-25726 Filed 11-28-22; 8:45 am]

BILLING CODE 4210-67-P